DEPARTMENT OF INTERIOR

Bureau of Land Management

[BLM_UT_FRN_MO4500169560]

Notice of Temporary Restrictions on Motorized Vehicle Use for Specified Routes on Public Lands in Grand County, Utah

AGENCY: Bureau of Land Management, Interior.

ACTION: Notice of temporary restrictions.

SUMMARY: As authorized under the provisions of the Federal Land Policy and Management Act of 1976, as amended, the Bureau of Land Management (BLM) is giving notice that temporary restrictions will be in effect on approximately 77 miles of routes crossing public lands administered by the Moab Field Office, to protect public land resources, reduce user conflicts, and minimize health and safety concerns during the Red Rock 4-Wheelers Incorporated's annual Easter Jeep Safari, approved under a 10-year Special Recreation Permit (SRP).

DATES: This action is in effect for the nine-day period prior to and including Easter each year from 2023 through 2032 for the Easter Jeep Safari. The Easter Jeep Safari route restrictions will take place April 1 through April 9, 2023.

ADDRESSES: Prior to the event every year, the BLM will post the dates for the Easter Jeep Safari, the dates of the temporary restrictions, and a map of the affected area at route trailheads at the Moab Field Office, 82 East Dogwood Avenue, Moab, Utah 84532, and the Moab Field Office's website: www.blm.gov/office/moab-field-office. The dates are also available upon request. Signs will also be placed along entrance roads for these routes (State Route 279 and Kane Creek Road) to inform users of the route restrictions prior to the event.

FOR FURTHER INFORMATION CONTACT: Jennifer Jones, Assistant Field Manager, Recreation, Moab Field Office, at email: blm_ut_mb_mail@blm.gov, the address above, or by telephone (435) 259-2100. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On Dec. 23, 2022, the BLM issued a decision record to renew Red Rock 4-Wheelers, Inc.'s, SRP for its annual Easter Jeep Safari organized event for a period of 10 years. This decision record also granted to Red Rock 4-Wheelers, Inc., exclusive motorized use of seven routes on public lands administered by the Moab Field Office during the event. Finally, the decision record limited two additional routes in this area to one-way travel during the event.

Based on an environmental assessment (DOI-BLM-UT-Y010-2022-0042-EA), the BLM concluded that limiting use of these seven routes exclusively to permitted motorized users and allowing only one-way travel on two additional routes for the nine-day period of the annual Easter Jeep Safari would prevent potential damage to wilderness characteristics, water quality, soils, visual resources, and vegetation by decreasing the amount of traffic concentrated on these narrow dirt routes. Additionally, it would decrease user conflict, while providing for a more-enjoyable experience during the annual Easter Jeep Safari for those motorized users holding an SRP. Similarly, one-way travel of two additional routes would reduce impacts to water quality, soils, visual resources, and vegetation by eliminating passing, which results in road widening. In addition, one-way travel would mitigate crowding along these two narrow routes, lessen user conflicts, and provide for a better experience for those motorized users holding an SRP.

Exclusive Use

During the nine-day restriction period, the Behind the Rocks, Cliff Hanger, Gold Bar Rim, Golden Spike, Moab Rim, Poison Spider Mesa, and Pritchett Canyon routes will be for the exclusive motorized use of Easter Jeep Safari participants and other commercial users with authorized SRPs valid for activities on these routes while official, scheduled event rides are occurring. When these routes are not in use for such rides, they will be open for public motorized use. Non-motorized uses on these routes will not be restricted.

One-Way Travel: During the nine-day restriction period, the Kane Creek Canyon and Steelbender routes will be restricted to one-way travel. On Kane Creek Canyon, motorized use must occur one-way from north to south (i.e., from the Hurrah Pass/Kane Creek Canyon junction south to the end of the route at U.S. Highway 191). For the Steelbender route, motorized use must occur one-way from north to south (i.e., from the Moab Golf Club area entry south to the southern end of the route near Flat Pass and Ken's Lake). This restriction applies to all motorized users for the entirety of the event.

Exceptions

Restrictions do not apply to motorized vehicle use by medical and rescue personnel in the performance of their official duties; official United States military and Federal, State, and local law enforcement purposes; Federal, State, and local officers and employees in the performance of their official duties; vendors with a valid BLM SRP; or as otherwise authorized by the BLM. Use of electric wheelchairs is also exempt.

Enforcement

Any person who violates the temporary restrictions may be tried before a United States Magistrate and fined in accordance with 18 U.S.C. 3571, imprisoned no more than 12 months under 43 U.S.C. 1733(a) and 43 CFR 8360.0-7, or both. In accordance with 43 CFR 8365.1-7, State or local officials may also impose penalties for violations of Utah law.

(Authority: 43 CFR 8360.0-7 and 43 CFR 8364.1)

Lance Porter,
Acting State Director.

[FR Doc. 2023-07228 Filed 4-5-23; 8:45 am]

BILLING CODE 4331-25-P